DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: December 15, 2022, 10:00 a.m.

PLACE: Room 2C, 888 First Street NE, Washington, DC 20426.

STATUS: Open to the public.

MATTERS TO BE CONSIDERED: Agenda. * Note—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed on line at the Commission's website at https://elibrary.ferc.gov/eLibrary/search using the eLibrary link.

1096th—Meeting
[Open Meeting; December 15, 2022, 10:00 a.m.]
Item No. | Docket No. | Company
Administrative
A-1 | AD23-1-000 | Agency Administrative Matters.
A-2 | AD23-2-000 | Customer Matters, Reliability, Security and Market Operations.
A-3 | AD21-18-000 | 2021 Cold Weather Event in Texas and the South Central U.S.
Electric
E-1 | RM22-7-000 | Applications for Permits to Site Interstate Electric Transmission Facilities.
E-2 | EL22-34-000 | Office of the Ohio Consumers' Counsel v. American Electric Power Service Corporation, American Transmission Systems, Inc., and Duke Energy Ohio, LLC.
E-3 | ER22-2476-000; ER22-2476-001; ER22-2488-000 | Arizona Public Service Company.
E-4 | ER22-2844-000 | Duke Energy Carolinas, LLC.
E-5 | EL22-88-000 | Duke Energy Florida, LLC.
E-6 | ER22-109-000; ER22-109-001; ER22-110-000 | Cheyenne Light, Fuel and Power Company.
E-7 | ER22-477-002 | Midcontinent Independent System Operator, Inc.
E-8 | ER22-995-001 | Midcontinent Independent System Operator, Inc.
E-9 | ER22-2730-000 | California Independent System Operator Corporation.
E-10 | ER21-2695-001; ER21-2695-002 | Lincoln Land Wind, LLC.
E-11 | ER21-2459-000 | Tenaska Power Services Co.
E-12 | ER21-2380-000 | EDF Trading North America, LLC.
E-13 | EL19-38-002 | City and County of San Francisco v. Pacific Gas and Electric Company.
E-14 | ER22-1105-000 | Arizona Public Service Company, Black Hills Colorado Electric, LLC, Black Hills Power, Inc., Cheyenne Light, Fuel and Power Company, El Paso Electric Company, Public Service Company of Colorado, Public Service Company of New Mexico, Tucson Electric Power Company, and UNS Electric, Inc.
E-15 | ER22-2494-000 | FirstEnergy Service Company.
E-16 | EC22-78-000 | Fortistar North Tonawanda LLC.
E-17 | EL21-105-000 | Complaint of George R. Cotter Seeking Modifications to Critical Infrastructure Security Standards.
E-18 | EL22-59-000 | Tenaska Clear Creek Wind, LLC v. Southwest Power Pool, Inc., Midcontinent Independent System Operator, Inc., Associated Electric Cooperative, Inc., and Tennessee Valley Authority.
E-19 | EL23-2-000 | Pacific Gas and Electric Company.
E-20 | ER21-2592-000; ER21-2592-001 | Pacific Gas and Electric Company.
E-21 | EL15-70-003 | Public Citizen, Inc. v. Midcontinent Independent System Operator, Inc.
| EL15-71-003 | The People of the State of Illinois, By Illinois Attorney General Lisa Madigan v. Midcontinent Independent System Operator, Inc.
| EL15-72-003 | Southwestern Electric Cooperative, Inc. v. Midcontinent Independent System Operator, Inc., Dynegy, Inc., and Sellers of Capacity into Zone 4 of the 2015-2015 MISO Planning Resource Auction.
E-22 | EC22-26-000 | Liberty Utilities Co., Kentucky Power Company, and AEP Kentucky Transmission Company, Inc.
E-23 | ER21-502-004 | New York Independent System Operator, Inc.
E-24 | EL18-152-001 | Louisiana Public Service Commission v. and System Energy Resources, Inc., and Entergy Services, Inc.
E-25 | ER18-1182-001; EL23-11-000 | System Energy Resources, Inc.
E-26 | EL22-53-000 | UBS Asset Management Inc.
Gas
G-1 | PL23-1-000 | Oil Pipeline Affiliate Committed Service.
G-2 | OR17-2-001 | Magellan Midstream Partners, L.P.
G-3 | OR20-13-001 | Enerplus Resources (USA) Corporation v. Targa Badlands LLC, Targa Assets LLC, and Targa Fort Berthold LLC.
| OR23-2-000 | Targa Badlands LLC, Targa Assets LLC, and Targa Fort Berthold LLC.
G-4 | OR23-1-000 | Rough Rider Operating LLC.
G-5 | OR18-30-001 | Targa NGL Pipeline Company LLC.
G-6 | RP19-78-000; RP19-78-001; RP19-1523-000 | Panhandle Eastern Pipe Line Company, LP.
| RP19-257-005 (consolidated) | Southwest Gas Storage Company.
Hydro
H-1 | P-1333-066 | Pacific Gas and Electric Company and Tule Hydro LLC.
Certificates
C-1 | CP17-40-006 | Spire STL Pipeline LLC.
C-2 | CP22-40-000 | Eastern Shore Natural Gas Company.
C-3 | CP21-29-001 | Gas Transmission Northwest LLC.
C-4 | CP21-94-000 | Transcontinental Gas Pipe Line Company, LLC.
C-5 | CP20-312-001; RP21-882-001 | Equitrans, L.P.
| CP22-497-000 | Big Dog Midstream, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: December 8, 2022.
Kimberly D. Bose,
Secretary.

[FR Doc. 2022-27126 Filed 12-9-22; 4:15 pm]

BILLING CODE 6717-01-P